DEPARTMENT OF ENERGY

Industry Day—Expanding Clean Energy Generation on DOE Lands

AGENCY: U.S. Department of Energy.

ACTION: Notice of Industry Day on Developing Clean Energy Generation on DOE Lands.

SUMMARY: The U.S. Department of Energy (DOE) is launching an initiative to increase clean energy production by making DOE land available for the potential development of new clean electricity generation through leases. To support this effort, DOE is hosting an Industry Day. At the Industry Day, Secretary Granholm will present DOE's vision for utilizing DOE land to achieve clean electricity goals and senior leaders will share information on sites potentially available for development. Participants will have the opportunity to ask questions and provide feedback.

DATES: The Industry Day will be held on Friday, July 28, 2023, from 10:00 a.m. to 2:30 p.m.

ADDRESSES: DOE Headquarters, James V. Forrestal Building, 1000 Independence Avenue SW, Washington, DC 20585.

Registration: The Industry Day is open to interested parties with proven experience in implementing successful clean electricity projects generating 200 MW or larger.

Interested participants must register by Wednesday, July 19, 2023 at DOE_Industry_Day@hq.doe.gov and provide their name (as it appears on their government-issued identification), title, organization or company, email address, and telephone number.

Interested participants may also submit questions to DOE_Industry_Day@hq.doe.gov no later than Wednesday, July 19, 2023.

FOR FURTHER INFORMATION CONTACT: Craig Zamuda, Director of Sustainability Performance Office, Office of Management, U.S. Department of Energy at (202) 586-8645 or craig.zamuda@hq.doe.gov.

SUPPLEMENTARY INFORMATION: DOE has identified land at several of its sites for potential deployment of onsite clean electricity generation or storage projects. The land is suitable for large scale clean electricity projects (e.g., 200MW or larger, or approximately 2,000 contiguous acres or larger).

Through Executive Order (E.O.) 14057, Catalyzing Clean Energy Industries and Jobs Through Federal Sustainability, President Biden called on agencies to achieve 100% carbon pollution-free electricity (clean electricity) on a net-annual basis as early as 2030, including 50% 24/7 clean electricity. In accordance the E.O., clean electricity means electrical energy produced from resources that generate no carbon emissions, including marine energy, solar, wind, hydrokinetic (including tidal, wave, current, and thermal), geothermal, hydroelectric, nuclear, renewably sourced hydrogen, and electrical energy generation from fossil resources to the extent there is active capture and storage of carbon dioxide emissions that meets EPA requirements.

The E.O. also directs agencies to facilitate new clean electricity generation and energy storage by authorizing the use of their real property assets, including land, for the development of new clean electricity generation and energy storage through leases to the extent permitted by law. As the federal leader on clean-energy research and development and the steward of more than 2 million acres of land, DOE has both a unique opportunity and clear responsibility to lead and identify creative solutions to achieve the president's mandate.

DOE is acting with urgency to significantly increase onsite clean electricity generation by 2030 while ensuring robust protection for our lands, waters, and biodiversity; ensuring site security; elevating stakeholder and especially Tribal benefits where relevant; and creating good jobs.

DOE is holding the Industry Day to share additional information about this initiative and to identify parties with proven experience in implementing successful clean electricity projects generating 200 MW or larger. Such parties must have the capacity and the resources to construct, own and maintain facilities and infrastructure to generate clean electricity.

During the Industry Day, Secretary Granholm will present DOE's vision for utilizing DOE land to achieve clean electricity goals and senior leaders will share information on sites potentially available for development. In addition, policy and technical issues will be discussed including DOE leasing authorities, National Environmental Policy Act (NEPA) requirements, and transmission challenges. Participants will have the opportunity ask questions and provide feedback.

Signing Authority

This document of the Department of Energy was signed on June 26, 2023, by Ingrid Kolb, Director, Office of Management, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on June 27, 2023.
Treena V. Garrett,
Federal Register Liaison Officer, U.S. Department of Energy.

[FR Doc. 2023-13932 Filed 6-29-23; 8:45 am]

BILLING CODE 6450-01-P